DEPARTMENT OF HEALTH AND HUMAN SERVICES

National Institutes of Health

Center for Scientific Review; Amended Notice of Meeting

Notice is hereby given of a change in the meeting of the Center for Scientific Review Special Emphasis Panel, June 7, 2011, 11 a.m. to June 7, 2011, 5 p.m., Doubletree Hotel Washington, 1515 Rhode Island Avenue, NW., Washington, DC 20005 which was published in the Federal Register on April 29, 2011, 76 FR 24036-24038.

The meeting title has been changed to “Collaborative: Child Psychopathology”. The meeting is closed to the public.

Dated: May 13, 2011.
Jennifer S. Spaeth,
Director, Office of Federal Advisory Committee Policy.

[FR Doc. 2011-12465 Filed 5-19-11; 8:45 am]

BILLING CODE 4140-01-P